DEPARTMENT OF THE INTERIOR

National Park Service

[NPS-WASO-NRNHL-DTS#-39988; PPWOCRADI0, PCU00RP14.R50000]

National Register of Historic Places; Notification of Pending Nominations and Related Actions

AGENCY: National Park Service, Interior.

ACTION: Notice.

SUMMARY: The National Park Service is soliciting electronic comments on the significance of properties nominated before April 5, 2025, for listing or related actions in the National Register of Historic Places.

DATES: Comments should be submitted electronically by May 5, 2025.

ADDRESSES: Comments are encouraged to be submitted electronically to National_Register_Submissions@nps.gov with the subject line “Public Comment on <property or proposed district name, (County) State>” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before April 5, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ARKANSAS

Baxter County

Big Spring, Bull Shoals Road. ¼ Mile Southwest of Powerhouse Road, Bull Shoals vicinity, SG100011816

Boone County

Rose Hill Cemetery, 601 West Prospect Avenue, Harrison, SG100011832

Drew County

Fine Arts Building (New Deal Recovery Efforts in Arkansas MPS), 372 University Drive, Monticello vicinity, MP100011828

Franklin County

Smith Creek Bridge (New Deal Recovery Efforts in Arkansas MPS), Oak Bend Road over Smith Creek, Webb City, MP100011812

Miller County

Porter-McClure Paint Company Store, 204 E Broad Street, Texarkana, SG100011830

Pulaski County

Gibson & Company's Blue Star/Horizon Home, 7012 Shamrock Drive, Little Rock, SG100011826

Johnson, Robert H. and Martha, House, 5026 E Crestwood Drive, Little Rock, SG100011831

Union County

James Johnson Boys Club Gymnasium Building, 1901 Detroit Avenue, El Dorado, SG100011810

Washington County

William and Marion Orton House (Arkansas Designs of E. Fay Jones MPS), 1641 West Halsell Road, Fayetteville, MP100011811

William and Marion Orton House (Residences of University Heights, Haskell Heights, and Markham Hill, Fayetteville, Arkansas), 1641 West Halsell Road, Fayetteville, MP100011811

COLORADO

Boulder County

Tower of Compassion, 1151 S Pratt Parkway, Longmont, SG100011790

Otero County

United Methodist Church of La Junta, 601 San Juan Ave., La Junta, SG100011789

DISTRICT OF COLUMBIA

District of Columbia

Randle Highlands School (Public School Buildings of Washington, DC MPS), 1650 Thirtieth Street SE, Washington, MP100011795

HAWAII

Hawaii County

Hāmākua Country Club, 45-3280 Māmalahoa Highway, Honoka'a, SG100011796

Honolulu County

Joseph and Joan Farrell Residence, 3196 Diamond Head Road, Honolulu, SG100011803

IOWA

Clayton County

German Methodist Episcopal Church, 25964 Giard Road, McGregor, SG100011791

NEBRASKA

Fillmore County

Grafton High School (School Buildings in Nebraska MPS), 102 West 2nd Street, Grafton, MP100011792

NEW YORK

Columbia County

Smith Octagon House, 1250 U.S. Rt. 9, Stockport, SG100011820

Kings County

Stuyvesant Gardens I, 835 Gates Avenue (see Building Inventory for full list of addresses), Brooklyn, SG100011817

Ulster County

Charles D. & Elizabeth Lantry House, 111 Downs Street, Kingston, SG100011821

NORTH DAKOTA

Williams County

Fort Union Trading Post National Historic Site Historic District (Boundary Increase), Address Restricted, Williston vicinity, BC100011806

PENNSYLVANIA

Cambria County

Grandview Cemetery, 801 Millcreek Road, Johnstown, SG100011822

SOUTH CAROLINA

Horry County

Conway Downtown Historic District (Boundary Increase II) (Conway MRA), Portions of Elm St., Fourth Ave, Kingston St., Laurel St., Main St., Norman Alley, and Third Ave., Conway, BC100011793

VIRGINIA

Carroll County

Little Valley School, 880 Little Valley Road, Meadows of Dan, SG100011809

Fredericksburg INDEPENDENT CITY

Fall Hill Avenue Medical Historic District, 2300-2501 Fall Hill Avenue, Fredericksburg, SG100011797

Middlesex County

Christchurch School, 218 Christchurch Lane, Saluda, SG100011800

Pittsylvania County

Gilbert's Restaurant, 401-405 N Main Street, Chatham, SG100011808

Powhatan County

Sublett's Tavern, 1652 Huguenot Trail, Powhatan, SG100011798

WEST VIRGINIA

Ohio County

Warwood Historic District, N 23rd Street to the North, Ohio River to the west Warwood Avenue & River Road to the east and Centre Foundry to the south, Wheeling, SG100011807

WISCONSIN

Green County

New Glarus Hotel, 100 6th Avenue, New Glarus, SG100011829

WYOMING

Campbell County

Daly Petroglyphs, Address Restricted, Wildcat vicinity, SG100011833

A request for removal has been made for the following resource(s):

ARKANSAS

Clay County

Waddle House, S Erwin, Success, OT77000246

Baynham House, Stephens St., Success, OT78000579

Hempstead County

Ruggles, Nesburt T., House, AR 32 E side, SE of Shover Springs, Shover Springs vicinity, OT94001463

Washington County

Cane Hill Road Bridge (Historic Bridges of Arkansas MPS), AR 170 over the Little Red River, Prairie Grove vicinity, OT09001261

White County

Cremane House (White County MPS), Co. Rd. 95 W of Bradford Lake, Bradford, OT91001320

Additional documentation has been received for the following resource(s):

ARIZONA

Pima County

Broadmoor Historic District (Additional Documentation III), Residential subdivision south of Broadway Blvd. between Tucson Blvd. and Country Club Rd., Tucson, AD100006151

NORTH DAKOTA

Williams County

Fort Union Trading Post National Historic Site Historic District Additional Documentation), Address Restricted, Williston vicinity, AD66000103

SOUTH CAROLINA

Horry County

Conway Downtown Historic District (Additional Documentation) (Conway MRA), Roughly bounded by Fourth Ave., Kingston St., Third Ave. and Laurel St., Conway, AD94000815

Authority: Section 60.13 of 36 CFR part 60.

Sherry A. Frear,
Chief, National Register of Historic Places/National Historic Landmarks Program.

[FR Doc. 2025-06742 Filed 4-17-25; 8:45 am]

BILLING CODE 4312-52-P